DEPARTMENT OF THE INTERIOR

National Park Service

Final Environmental Impact Statement/Lake Management Plan, Lake Mead National Recreation Area, Nevada and Arizona; Notice of Approval of Record of Decision

Summary: Pursuant to § 102(2)(C) of the National Environmental Policy Act of 1969 (Pub. L. 91-190, as amended) and the implementing regulations promulgated by the Council on Environmental Quality (40 CFR part 1505.2), the Department of the Interior, National Park Service has prepared, and the Regional Director, Pacific West Region has approved, the Record of Decision for the Lake Management Plan for Lake Mead National Recreation Area, in southeast Nevada and southwest Arizona. The requisite 30 days no-action period was officially initiated January 17, 2003, with the U.S. Environmental Protection Agency's Federal Register notification of the filing of the Final Environmental Impact Statement (EIS).

Decision: As soon as practicable the NPS will begin to implement the Lake Management Plan described and analyzed as Alternative C (the Preferred Alternative) contained in the Final EIS. The selected plan features a deliberate, long-term strategy to protect significant cultural and natural resources, while allowing for a spectrum of recreational use. Boating carrying capacity is established at 5055 boats, waters are zoned for a variety of recreational settings including a shoreline flat wake zone to improve shoreline safety, and new sanitation and public education measures will be initiated. Carbureted two-stroke engines will be prohibited beginning December 31, 2012, and personal watercraft use is authorized in specified zones (the final rulemaking to authorize personal watercraft use is scheduled to be published immediately, while separate rulemaking will be pursued to implement other components of the selected plan). This plan was deemed to be the “environmentally preferred” alternative, and it was further determined that no impairment of park values would ensue based on its implementation.

This course of action and three alternative plans were identified and analyzed in the Final EIS, and previously in the Draft EIS (the latter was distributed in April 2002). The full spectrum of foreseeable environmental consequences were assessed, and appropriate measures to minimize harm were identified, for each alternative. Beginning with early scoping, through the preparation of the Draft and Final EIS, numerous public meetings were conducted, and media (local and regional) and Web site updates were regularly produced. All written comments responding to the Draft and Final EIS were duly considered, and are maintained in the administrative record of the overall conservation planning and environmental impact analysis process. Key collaborations which aided in the preparation of the Draft and Final EIS involved (but were not limited to) numerous county and city agencies and boards in Arizona and Nevada, the U.S. Fish and Wildlife Service, Arizona Game and Fish Dept., Nevada Div. of Wildlife, all interested native American Tribes, affected Colorado River law enforcement agencies, Nevada and Arizona State Historic Preservation Offices, and the U.S. Geological Survey.

Copies: Interested parties desiring to review the Record of Decision may obtain a complete copy by contacting the Superintendent, Lake Mead National Recreation Area, 601 Nevada Way, Boulder City, NV 89005; or via telephone request at (702) 293-8986.

Dated: March 18, 2003.
Patricia L. Neubacher,
Acting Regional Director, Pacific West Region.

[FR Doc. 03-8547 Filed 4-7-03; 8:45 am]

BILLING CODE 4310-70-P